DEPARTMENT OF AGRICULTURE

Forest Service

Willamette National Forest, McKenzie River Ranger District; Oregon; Green Mountain Project

AGENCY: Forest Service, USDA.

ACTION: Notice of intent to prepare an environmental impact statement.

SUMMARY: The Green Mountain Project is proposed to increase stream-side vegetative diversity, increase in-stream habitat complexity and productivity, shift the age-class and structural diversity of the forest in the project area landscape, and provide forest products. Proposed activities to achieve the purpose of the project include forest management treatments across approximately 5,154 acres (~4.9% of the analyzed landscape). Treatments include ~3,588 acres of variable forest thinning (including 1,859 acres of riparian reserve thinning) and ~1,250 acres of regenerating forest habitat creation through harvests that may include shelterwood harvests, two-aged systems, group selections, variable retention harvests, and seed tree harvests. Road work would be part of the actions associated with the proposed activities and would include: Road maintenance/reconstruction (~137 miles), temporary road construction (~21 miles), new road construction (~0.5 miles), road decommissioning (~9.6), road closure amendments, and one potential bridge replacement.

DATES: Comments concerning the scope of the analysis must be received by May 12, 2014. The draft environmental impact statement is expected August 2014 and the final environmental impact statement is expected October 2014.

ADDRESSES: Send written comments to 57600 McKenzie HWY, McKenzie Bridge, OR 97413. Comments may also be sent via email to comments-pacificnorthwest-willamette-mckenzieriver@fs.fed.us, or via facsimile to 541-822-7254. District open-house public meetings will be held at the McKenzie River district office (57600 McKenzie Hwy, McKenzie Bridge, OR 97413) on April 24, 2014 and May 1, 2014 from 1 p.m.-7 p.m. Green Mountain open-house meetings will be held on May 2, 2014 and May 9, 2014 from 5:30 p.m. to 7:30 p.m. at locations to be determined (please contact our office at 541-822-3381 for updated information). These meetings provide additional opportunity for you to submit any scoping comments you may have.

FOR FURTHER INFORMATION CONTACT: Guenther Castillon at gcastillon@fs.fed.us or at 541-822-7214.

Individuals who use telecommunication devices for the deaf (TDD) may call the Federal Information Relay Service (FIRS) at 1-800-877-8339 between 8 a.m. and 8 p.m., Eastern Time, Monday through Friday.

SUPPLEMENTARY INFORMATION:

Purpose and Need for Action

The Green Mountain project area is approximately 98,225 acres in size, located around Forest Road 19 above Cougar Dam. The district's resource specialists reviewed this landscape and identified it to have the greatest need across the McKenzie River District for work that would benefit riparian and aquatic resources. An analysis of the landscape also shows a lack of age-class diversity and associated habitat diversity, especially those affecting very old and very young forest-dependent species. Also approximately 79% of the forested stands in the project area are overstocked from a tree health perspective. There is opportunity to thin, reduce the number of trees, and increase the size and structure of the remaining forest over time. The productivity and site conditions of forests in the project area allow for the production of forest products while being sensitive to the ecology of the area and meeting other important natural values and services.

The Purpose of this project is to provide forest products, increase stream-side vegetative diversity, increase in-stream habitat complexity and productivity, and shift the age-class and structural diversity of the forest in the project area landscape.

Proposed Action

Vegetation—We propose to thin ~3,588 acres 9958 characters, 1526 words, 94 lines (3.7% of the Project Area) and regenerate ~1,250 acres (1.3% of the Project Area). We propose to use thinning across the majority of the project and these treatments would incorporate some untreated areas (skips) and create gaps of up to three acres with variable spacing of remaining trees. We would design the regeneration harvest to increase forest-age diversity across the Project Area. The type of regeneration harvests would vary and may potentially include: Shelterwood harvests, two-aged systems, group selection harvests, variable retention harvests, and seed tree harvests. The age of stands proposed to be thinned ranges from 15 to 148 years, average stand age; and the age of stands proposed to be regenerated range from 15-135 years. Douglas-fir trees have an average lifespan of 500 years with individuals exceeding 1,000 years. These treatments would occur on stands that are 3 to 30% of their average maximum age. The overall total area treated under both treatment categories would be approximately 5,154 acres (~4.9% of the Project Area).

Streams—Approximately 44% of the total project area has a riparian reserve designation that overlaps with other management allocations. We are not proposing regeneration harvests within riparian reserves. We are proposing about 1,859 acres of thinning within riparian reserves (these acres include no-cut buffers adjacent to the stream channel, which reduces the actual total number of riparian acres treated). We proposed harvest or cutting within riparian reserves to increase in-stream productivity by increasing hardwood trees and light availability. We would also create snags and down wood to add structural diversity. We would use a combination of thinning, cut and leave treatments, gap creations (approximately 8 acres total across all riparian treatments), and no-cut stream buffers.

Roads—We propose to remove forest products and include associated road work across the project area. We would include approximately 137 miles of road maintenance/reconstruction that would include the installment of approximately 200 culverts (primarily replacements). We would also propose to store and hydrologically stabilize approximately 21 miles of road, and decommission approximately 9.6 miles of road. The existing seasonal closure on Forest Service (FS) roads 1900-430 and 1900-431 would be proposed for removal. The current closure on FS road 1927-240 would be reduced in extent by moving the current closure (gate) location at the intersection with FS road 1927 to a new location at approximately mile point 6.7 down the 240 road. We would propose construction of 9.5 miles of temporary road. These temporary roads would be restored to their previous function and closed after all project activities are completed. To address an existing bridge failure we would propose either installing a temporary bridge (FS road 1980-204), or we would build new road across approximately 0.5 mile and decommission 0.7 mile of road behind the old bridge.

Responsible Official: Willamette forest supervisor.

Nature of Decision To Be Made

Given the purpose and need, the scope of the decision to be made by the responsible official will be as follows:

• Do the proposed actions comply with all applicable laws governing Forest Service actions?

• Do the proposed actions comply with the applicable Standards and Guidelines found in the Willamette Land and Resource Management Plan (LRMP)?

○ If not, will the action amend the LRMP?

• Does the Environmental Impact Statement have sufficient site-specific environmental analysis to make an informed decision?

• Do the proposed actions meet the purpose and need for action?

With these assurances the responsible official must decide:

• Whether or not to select the proposed action or one of any other potential alternatives that may be developed, and what, if any, additional actions should be required.

Scoping Process

This notice of intent initiates the scoping process, which guides the development of the environmental impact statement. District open-house public meetings will be held for your convenience at the McKenzie River district office (57600 McKenzie Hwy, McKenzie Bridge, OR 97413) on April 24, 2014 and May 1, 2014 from 1 p.m.-7 p.m. Green Mountain open-house meetings will be held on May 2, 2014 and May 9, 2014 from 5:30 p.m. to 7:30 p.m. at locations to be determined (please contact our office at 541-822-3381 for updated information). All of these meetings provide an opportunity to gain more information regarding this proposed project and also provide an opportunity for you to submit any scoping comments you may have. We are interested in your comments on the following questions:

• Are there alternative ways to meet the purpose of the project other than the proposed action we offer, which you would like the Forest Service to consider and analyze?

• Is there any information about the project area, which you believe is important in the context of the proposed activities that you would like the Forest Service to consider?

• What specifically are the potential effects of this proposal that you are particularly concerned about? For example, rather than simply stating that you would like a change in a proposed activity or that you would not like an activity to take place, it is most helpful to understand why you desire this. What are your underlying concerns with an activity or action; what are the effects from the activity that concern you? It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: April 3, 2014.
Meg Mitchell,
Forest Supervisor, Willamette National Forest.

[FR Doc. 2014-07968 Filed 4-10-14; 8:45 am]

BILLING CODE 3410-11-M